POSTAL SERVICE

39 CFR Part 111

Post Office (PO) Box Fee Groups for Merged Locations

AGENCY: Postal Service.™

ACTION: Proposed rule.

SUMMARY: The Postal Service proposes to revise Mailing Standards of the United States Postal Service, Domestic Mail Manual (DMM®) 508.4 to allow Post Office ™ (PO) Box fee groups to be merged due to Post Office mergers and to have the ability to change a box fee group more than one higher or lower level at a time in limited circumstances.

DATES: We must receive your comments on or before August 11, 2011.

ADDRESSES: Mail or deliver written comments to the manager, Mailing Standards, U.S. Postal Service®, 475 L'Enfant Plaza, SW., Room 4446, Washington, DC 20260-5015. You may inspect and photocopy all written comments at USPS® Headquarters Library, 475 L'Enfant Plaza, SW., 11th Floor N, Washington, DC between 9 a.m. and 4 p.m., Monday through Friday. E-mail comments concerning the proposed price eligibility, containing the name and address of the commenter, may be sent to: MailingStandards@usps.gov, with a subject line of “PO Box Fee Group for Merged Locations.” Faxed comments are not accepted.

FOR FURTHER INFORMATION CONTACT: Nan McKenzie at 202-268-3089, David Rubin at 202-268-2986, or Richard Daigle at 202-268-6392.

SUPPLEMENTARY INFORMATION: Current mailing standards limit changes for a PO Box™ fee group assignment for a 5-digit ZIP Code™ to one level higher or lower, and only once per calendar year. This proposed rule would allow the Postal Service to change the fee group assignment for PO Boxes by more than one level (higher or lower) when boxes move to a different ZIP Code location because of a merger of two or more ZIP Code locations into a single location. Absent a change, where a box section is merged with a location whose box section is more than one fee group level different, the location would need to charge two different fee groups. Changing the standards would allow the fee group of the merged (receiving) location to apply to all customers receiving PO Box service in that location.

Also, prior to any such merge, existing PO Box customers would have the option to renew at their current fees for another 6-month or 12-month period, even if the resulting fee will have been paid for more than one year in advance.

Although we are exempt from the notice and comment requirements of the Administrative Procedure Act [5 U.S.C. of 553(b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

500 Additional Mailing Services

* * * * *

508 Recipient Services

* * * * *

4. Post Office Box Service

* * * * *

4.5 Basis of Fees and Payment

* * * * *

4.5.3 Fee Changes

[Revise 4.5.3 as follows:]

A change in Post Office box service fees applicable to a 5-digit ZIP Code can arise from a general fee change. In addition, the manager, Retail Services, may assign a fee group to a new ZIP Code, may reassign one or more 5-digit ZIP Codes to the next higher or lower fee group if the past fee group assignments were in error, or may regroup 5-digit ZIP Codes. Except when boxes from two or more ZIP Codes are being merged into a single location, a ZIP Code may be moved only into the next higher or lower fee group. If boxes in two or more ZIP Codes merge, the fee group will be that of the merged (receiving) location, even if one of the fee groups changes by more than one level. No ZIP Code may be moved into a different fee group more than once a calendar year. Any change in Post Office box service fees takes effect on the date of the action that caused the change unless an official announcement specifies another date. If Post Office box service fees are increased, no customer must pay the new price until the end of the current service period, and no retroactive adjustment will be made for a payment received before the date of the change. The fee charged is that in effect on the date of payment.

4.5.4 Payment

[Revise the introductory text of 4.5.4 as follows:]

All fees for Post Office box service are for 6- or 12-month prepaid periods, except as noted under 4.5.6, 4.5.7, and 4.5.10. The general rule is that a fee may be paid up to one year in advance; however, when boxes from two or more ZIP Codes are being merged into a single location, a customer has the option, prior to the merge, to renew at the current fee for another 6-month or 12-month period, even when this results in a fee being paid more than one year in advance. Customers may pay the fee using any of the following methods:

* * * * *

4.5.5 Payment Period

[Revise 4.5.5 as follows:]

Except under 4.5.7, the beginning date for a Post Office box fee payment period is determined by the approval date of the application. The period begins on the first day of the same month if the application is approved on or before the 15th of the month, or the next month if approved after the 15th of the month. Fees for service renewal may be paid any time during the last 30 days of the service period, except as allowed under 4.5.4, but no later than the last day of the service period.

* * * * *

4.5.8 Change of Payment Period

[Revise 4.5.8 as follows:]

Except for customers at Post Offices subject to 4.5.7, a Post Office box customer of record may change the payment period by submitting a new application noting the month to be used as the start of the revised payment period. The date selected must be before the end of the current payment period. The unused fee for the period being discontinued may be refunded under 4.7, and the fee for the new payment period must be fully paid in advance. Except when boxes from two or more ZIP Codes are being merged into a single location (see 4.5.4), a change of payment period date must not be used to circumvent a change in box fees.

* * * * *

4.6 Fee Groups

4.6.1 Regular Fee Groups

[Revise 4.6.1 as follows:]

For Post Office box fee groups, see Notice 123—Price List. Post Office boxes are assigned to fee groups and classified as competitive or market dominant based upon the Post Office location. Local Post Offices can provide information about fees for a particular ZIP Code.

* * * * *

We will publish an appropriate amendment to 39 CFR part 111 to reflect these changes if our proposal is adopted.

Stanley F. Mires,
Chief Counsel, Legislative.

[FR Doc. 2011-17386 Filed 7-11-11; 8:45 am]

BILLING CODE 7710-12-P